INTERNATIONAL TRADE COMMISSION

[Investigation Nos. 731-TA-1602, 1604-1606 (Final)]

Tin Mill Products From the Netherlands, Taiwan, Turkey, and the United Kingdom Termination of Investigations

AGENCY: United States International Trade Commission.

ACTION: Notice.

SUMMARY: On January 10, 2024, the Department of Commerce published notice in the Federal Register of negative final determinations of less than fair value (LTFV) in connection with the subject investigations concerning the Netherlands, Taiwan, Turkey, and the United Kingdom. Accordingly, the antidumping duty investigations concerning tin mill products from the Netherlands, Taiwan, Turkey, and the United Kingdom (Investigation Nos. 731-TA-1602, 1604-1606 (Final)) are terminated.

DATES: January 10, 2024.

FOR FURTHER INFORMATION CONTACT: Caitlyn Hendricks-Costello (202-205-2058), Office of Investigations, U.S. International Trade Commission, 500 E Street SW, Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its internet server (https://www.usitc.gov). The public record for these investigations may be viewed on the Commission's electronic docket (EDIS) at https://edis.usitc.gov.

Notice of these determinations was published in the Federal Register on January 10, 2024 at 89 FR 1524, 89 FR 1526, 89 FR 1520, and 89 FR 1535.

Authority: These investigations are being terminated under authority of title VII of the Tariff Act of 1930 and pursuant to section 207.40(a) of the Commission's Rules of Practice and Procedure (19 CFR 207.40(a)). This notice is published pursuant to section 201.10 of the Commission's rules (19 CFR 201.10).

By order of the Commission.
Issued: January 12, 2024.
Sharon Bellamy,
Supervisory Hearings and Information Officer.

[FR Doc. 2024-00911 Filed 1-18-24; 8:45 am]

BILLING CODE 7020-02-P